DEPARTMENT OF THE INTERIOR

Fish and Wildlife Service

[FWS-R9-MB-2008-N0175] [91200-1231-00AP-M4]

Proposed Information Collection; OMB Control Number 1018-0019; North American Woodcock Singing Ground Survey

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on December 31, 2008. We may not conduct or sponsor and a person is not required to respond to a collection of information unless it displays a currently valid OMB control number.

DATES: You must send comments on or before September 22, 2008.

ADDRESSES: Send your comments on the IC to Hope Grey, Information Collection Clearance Officer, Fish and Wildlife Service, MS 222-ARLSQ, 4401 North Fairfax Drive, Arlington, VA 22203 (mail), or hope_grey@fws.gov (e-mail).

FOR FURTHER INFORMATION CONTACT: To request additional information about this IC, contact Hope Grey by mail or e-mail (see ADDRESSES) or by telephone at (703) 358-2482.

SUPPLEMENTARY INFORMATION:

I. Abstract

The Migratory Bird Treaty Act (16 U.S.C. 703-712) and Fish and Wildlife Act of 1956 (16 U.S.C. 742a - 754j-2) designate the Department of the Interior as the primary agency responsible for (1) wise management of migratory bird populations frequenting the United States and (2) setting hunting regulations that allow for the well-being of migratory bird populations. These responsibilities dictate that we gather accurate data on various characteristics of migratory bird populations.

The North American Woodcock Singing Ground Survey is an essential part of the migratory bird management program. State, Federal, Provincial, local, and tribal conservation agencies conduct the survey annually to provide the data necessary to determine the population status of the woodcock. In addition, the information is vital in assessing the relative changes in the geographic distribution of the woodcock. We use the information primarily to develop recommendations for hunting regulations. Without information on the population's status, we might promulgate hunting regulations that are not sufficiently restrictive, which could cause harm to the woodcock population, or too restrictive, which would unduly restrict recreational opportunities afforded by woodcock hunting. The Service, State conservation agencies, university associates, and other interested parties use the data for various research and management projects.

II. Data

OMB Control Number: 1018-0019.

Title: North American Woodcock Singing Ground Survey.

Service Form Number(s): 3-156.

Type of Request: Extension of currently approved collection.

Affected Public: State, Provincial, local, and tribal employees.

Respondent's Obligation: Voluntary.

Frequency of Collection: Annually.

Estimated Annual Number of Responses: 750.

Estimated Total Annual Burden Hours: 571 hours. We believe 70 percent of the respondents (525 persons) will enter data electronically, with an average reporting burden of 0.8 hours per respondent. For all other respondents, we estimate the reporting burden to be 0.67 hours per respondent.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: June 26, 2008
Hope Grey,
Information Collection Clearance Officer, Fish and Wildlife Service.

FR Doc. E8-16900 Filed 7-23-08; 8:45 am

Billing Code 4310-55-S